DEPARTMENT OF COMMERCE

International Trade Administration

North American Free Trade Agreement (NAFTA), Article 1904; Binational Panel Reviews: Notice of Termination of Panel Review

AGENCY: NAFTA Secretariat, United States Section, International Trade Administration, Department of Commerce.

ACTION: On April 18, 2007, a Notice of Motion to Terminate the Panel Review of the Final Determination of the Antidumping Investigation on Imports of Fresh Apples, merchandise classified in tariff item 08.08.10.01 from the United States of America, independent of the country of origin was filed on behalf of Domex Marketing, Inc., L&M Companies Inc., Nuchief Sales, Inc., Oneonata Trading Corporation, PAC Marketing International, LLC., Rainier Fruit Company and Sage Marketing LLC., “(las Reclamantes)”. Union Agricola Regional de Fruticultores del Estado de Chihuahua A.C., filed a notice of motion requesting termination in support of Domex and the others regarding Secretariat File No. MEX-USA-2003-1904-02.

SUMMARY: Pursuant to the Notice of Motion to Terminate the Panel Review and support of that motion, the panel review is terminated as of May 3, 2007. A panel has not been appointed to this panel review. Pursuant to Rule 71(2) of the Rules of Procedure for Article 1904 Binational Panel Review, this panel review is terminated.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter was requested and terminated pursuant to these Rules.

Dated: May 15, 2007.
Caratina L. Alston,
United States Secretary, NAFTA Secretariat.

[FR Doc. E7-9662 Filed 5-18-07; 8:45 am]

BILLING CODE 3510-GT-P